DEPARTMENT OF ENERGY

Federal Energy Regulatory Commission

[Docket Nos. IC11-520-000, IC11-561-000, and IC11-566-000]

Commission Information Collection Activities, Proposed Collections; Comment Request; Extension

AGENCY: Federal Energy Regulatory Commission.

ACTION: Notice of proposed information collections and request for comments.

SUMMARY: In compliance with the requirements of section 3506(c)(2)(A) of the Paperwork Reduction Act of 1995, 44 U.S.C. 3506(c)(2)(A) (2006), (Pub. L. 104-13), the Federal Energy Regulatory Commission (Commission or FERC) is soliciting public comment on the proposed information collection activities described below.

DATES: Comments in consideration of the collection of information are due May 3, 2011.

ADDRESSES: Comments may be filed either electronically (eFiled) or in paper format, and should refer to Docket Nos. IC11-520-000, IC11-561-000, and IC11-566-000. (For comments that only pertain to one of the collections, specify the appropriate collection and the related docket number.) Documents must be prepared in an acceptable filing format and in compliance with Commission submission guidelines at http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's e-mail address upon receipt of eFiled comments. Commenters making an eFiling should not make a paper filing. Commenters that are not able to file electronically must send an original of their comments to: Federal Energy Regulatory Commission, Secretary of the Commission, 888 First Street, NE., Washington, DC 20426.

Users interested in receiving automatic notification of activity in these dockets may do so through eSubscription at http://www.ferc.gov/docs-filing/esubscription.asp. In addition, all comments and FERC issuances may be viewed, printed or downloaded remotely through FERC's eLibrary at http://www.ferc.gov/docs-filing/elibrary.asp, by searching on Docket Nos. IC11-520, IC11-561, and IC11-566. For user assistance, contact FERC Online Support by e-mail at ferconlinesupport@ferc.gov, or by phone at: (866) 208-3676 (toll-free), or (202) 502-8659 for TTY.

FOR FURTHER INFORMATION CONTACT: Ellen Brown may be reached by e-mail at DataClearance@FERC.gov, telephone at (202) 502-8663, and fax at (202) 273-0873.

SUPPLEMENTARY INFORMATION: The Federal Power Act (FPA) as amended by the Public Utility Regulatory Policies Act of 1978 (PURPA) mandates Federal oversight and approval of certain electric corporate activities and put in place related information filing requirements. The FERC-520, the Form 561 and the FERC-566 are the data collections currently helping ensure that FPA-mandated oversight can occur and that neither public nor private interests are adversely affected by the electric activities the FPA provisions cover.

The implementing processes and regulatory requirements for the collections are codified in Chapter 18 of the Code of Federal Regulations (CFR).

Information collection number | OMB Number | CFR Cite | Statutory cite
FERC-520 | 1902-0083 | 18 CFR Part 45
Form 561 | 1902-0099 | 18 CFR 46.6 and 131.31 | FPA Section 305, as amended by PURPA Title II, section 211 (16 U.S.C. 825d)
FERC-566 | 1902-0114 | 18 CFR 46.3

To clarify the aim and better publicize the relationships among these information activities, FERC is combining its processes for noticing and renewing its OMB authority to conduct these information collections.

Overview of the Three Forms. The FERC-520, Form 561 and FERC-566 provide views into complex electric corporate activities and serve to safeguard public and private interests, as the FPA requires. The Commission can use its enforcement authority when violations and omissions of FPA requirements occur.

FERC-520. The FERC-520, “Application for Authority to Hold Interlocking Directorate Positions” is an application requesting FERC authorization for board members of regulated electric utilities that plan to simultaneously hold positions on the corporate boards of related or similar businesses. This corporate activity is known as an “interlocked directorate.” The FERC-520 originates in FPA Section 305(b) of the FPA. This part of the FPA makes the holding of certain defined interlocking corporate positions unlawful unless the Commission has authorized the interlocks to be held. Before assuming an interlocked board position, an applicant must demonstrate that neither public nor private interests will be adversely affected by the holding of the position. The FERC-520 identifies the applicant and describes the various interlocking positions the applicant seeks authorization to hold. Moreover, the form collects information related to the applicant's financial interests, other officers and directors of the firms involved, and the nature of business relationships among the firms.

FERC allows two types of FERC-520 applications to implement the FPA requirements for holding interlocked positions. The first, in 18 CFR 45.8, is a “full” application. “Full” applications are made by (1) an officer or director of more than one public utility; (2) an officer or director of a public utility and of a public utility securities underwriter; or (3) an officer or director of a public utility and of an electrical equipment supplier to that utility. They provide detailed information about the position for which authorization is sought, including a description of duties, estimated time devoted to the position, and the applicant's indebtedness to the public utility.

The second type of FERC-520 application, in 18 CFR 45.9, is an “informational” application for automatic authorization. These “informational applications” are made by (1) An officer or director of two or more public utilities where the same holding company owns, directly or indirectly, wholly or in part, the other public utility; (2) an officer or director of two public utilities, if one utility is owned, wholly or in part, by the other; or (3) an officer or director of more than one public utility, if such person is already authorized under Part 45 to hold different positions where the interlock involves affiliated public utilities.

As part of the FERC-520 application process, the FERC requires notices of change if the applicant resigns or withdraws from a Commission-authorized interlocked position or if the applicant is not re-elected or re-appointed to the interlocked position.

Form 561. The Commission uses the FERC Form 561, “Annual Report of Interlocking Positions” to implement the FPA requirement that those who are authorized to hold interlocked directorates annually disclose all the interlocked positions they held the prior year. The positions that must be disclosed in the Form 561 are those public utility officers and directors hold with financial institutions, insurance companies, utility equipment and fuel providers, and with any of an electric utility's twenty largest purchasers of electric energy. The FPA specifically defines most of the information elements in the Form 561, including the information that must be filed, the required filers, the directive to make the information available to the public, and the filing deadline. The Commission determined administrative aspects of the Form 561 such as the filing format and instructions for filling out the form.

FERC-566. The FERC-566 “Annual Report of a Utility's Twenty Largest Purchasers” implements FPA requirements that each public utility annually publish a list of the purchasers of the twenty largest annual amounts of electric energy sold by such public utility during any one of three previous calendar years pursuant to rules prescribed by the Commission. The public disclosure of this information provides officers and directors with the information necessary to determine whether any of the entities with whom they are related are any of the largest twenty purchasers of the public utility with which they are affiliated. Similar to the statutory detail in the FPA for the FERC 561, the FPA identifies who must file the FERC-566 report and sets the filing deadline. Additionally, the FPA specifies that those entities required to report who have a holding company system can calculate their total volumes of energy sold by including the amounts sold by utilities within their holding company system. The FERC details in its regulations special rules about the information to be provided in the FERC-566 report. For example, FERC allows required filers to file estimates of volumes based on actual information available to them if actual volumes are not available by the statutory due date. However, the FERC also requires revisions of those filed estimates with final numbers by March 1st.

Filings Information. Under FERC regulations, respondents must file their FERC-520, Form 561 and FERC-566 in various formats, including electronically via the Commission's eFiling web page. Most are submitted this way.

FERC has especially encouraged Form 561 respondents to file their forms via the FERC eFiling system and to use a Microsoft Excel version of the Form 561. The Microsoft Excel version of the Form 561 has been available since 1998. There have been many efforts since 1998 to use evolving and advanced features of the Excel software to make filling the form out easier and compiling the filed information more easily. The following table shows the number of filings FERC has received for each of the three information collections.

Number of Filings Related to Interlocked Positions and Reports of Utilities' Twenty Largest Customers 2008-2010
Filing name | 2008 | 2009 | 2010
FERC-520 (Total) | 689 | 600 | 594
○ Initial | 24 | 36 | 26
○ Informational | 469 | 326 | 335
○ Notice of Change | 196 | 238 | 233
Form 561 | 2,441 | 2,420 | 2,432
Form 566 | 403 | 457 | 443

Action: The FERC is requesting a three-year extension of the current expiration dates for these three information collections. It proposes to continue to explore making the filing of the FERC-520, FERC Form 561 and FERC-566 more efficient by evaluating and possibly adopting more modern information transfer technology.

Burden Statement: Public reporting burden for this collection is estimated in the following table.

Estimated Burden of FERC Collections Related to Interlocked Positions and Reports of Utilities' Twenty Largest Customers
Form name | Number of respondents annually (average) (1) | Number of responses per respondent (2) | Average burden hours per response (3) | Total annual burden hours (1)x(2)x(3)
FERC-520 | 406¹ (total) |  |  | 12,680
○ Initial | 29 | 1 | 51.8 | 1,502
○ Informational | 377 | 1 | 29.5 | 11,122
○ Notice of Change | 222 | 1 | .25 | 56
Form 561 | 2,431 | 1 | .25 | 608
FERC-566 | 434 | 1 | 6 | 2,604
Total |  |  |  | 15,873

The estimated total cost to FERC-520 respondents is $867,922. [12,680 hours/2080 hours ² per year, times $142,372 ³ equals $867,922]. The cost per FERC-520 respondent annually is $2,138.

¹ This number of unique respondents corresponds to the number of initial filers plus the number of informational filers.

² Number of hours an employee works each year.

³ Average annual salary per employee.

The estimated total cost to FERC-561 respondents is $41,616. [608 hours/2080 hours per year, times $142,372 equals $41,616]. The cost per FERC-561 respondent annually is $68.

The estimated total cost to FERC-566 respondents is $178,239. [2,604 hours/2080 hours per year, times $178,239 equals $178,239]. The cost per FERC-566 respondent annually is $68.

The estimated total cost to respondents for these three information collections is $1,087,777.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimate of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology e.g. permitting electronic submission of responses.

Dated: February 24, 2011.
Kimberly D. Bose,
Secretary.

[FR Doc. 2011-4859 Filed 3-3-11; 8:45 am]

BILLING CODE 6717-01-P